POSTAL SERVICE

Board of Governors; Sunshine Act Meeting

Dates and Times: Wednesday, August 4, 2010, at 10 a.m.; Thursday, August 5, at 8:30 a.m. and 10:30 a.m.

Place: Washington, DC, at U.S. Postal Service Headquarters, 475 L'Enfant Plaza, SW., in the Benjamin Franklin Room.

Status: Wednesday, August 4 at 10 a.m.—Closed; Thursday, August 5 at 8:30 a.m.—Open; and at 10:30 a.m.—Closed.

Matters to be Considered:

Wednesday, August 4 at 10 a.m. (Closed)

1. Strategic Issues.

2. Pricing.

3. Financial Matters.

4. Personnel Matters and Compensation Issues.

5. Governors' Executive Session—Discussion of prior agenda items and Board Governance.

Thursday, August 5 at 8:30 a.m. (Open)

1. Approval of Minutes of Previous Meetings.

2. Remarks of the Chairman of the Board.

3. Remarks of the Postmaster General and CEO.

4. Committee Reports.

5. Quarterly Report on Financial Performance.

6. Quarterly Report on Service Performance.

7. Tentative Agenda for the September 21-22, 2010, meeting in Washington, DC.

Thursday, August 5 at 10:30 a.m. (Closed—if Needed)

1. Continuation of Wednesday's closed session agenda.

Contact Person for More Information: Julie S. Moore, Secretary of the Board, U.S. Postal Service, 475 L'Enfant Plaza, SW., Washington, DC 20260-1000. Telephone (202) 268-4800.

Julie S. Moore,
Secretary.

[FR Doc. 2010-18124 Filed 7-20-10; 4:15 pm]

BILLING CODE 7710-12-P